DEPARTMENT OF TRANSPORTATION

Research and Special Programs Administration

[Docket No. RSPA-04-19883]

Pipeline Safety: Oversight Implementation and Inspection Protocols

AGENCY: Office of Pipeline Safety, Research and Special Programs Administration, DOT.

ACTION: Notice; Gas Integrity Management Workshop for Inspection Protocols.

SUMMARY: The Research and Special Programs Administration's (RSPA) Office of Pipeline Safety (OPS) and the National Association of Pipeline Safety Representatives (NAPSR) will cosponsor a workshop to discuss the oversight implementation of the Gas Integrity Management program and the Inspection Protocols. The workshop will provide a detailed review and discussion of Gas Pipeline Integrity Management Inspection Protocols as posted on the Gas Integrity Management public Web site at http://primis.rspa.dot.gov/gasimp/prolist.gim. RSPA/OPS and NAPSR will gather issues presented at the workshop needing additional clarification or guidance material development for the implementation of the rule oversight program.

DATES: January 19-20, 2005, from 8 a.m. to 5 p.m.

ADDRESSES: The Westin Atlanta North (Perimeter Mall), Seven Concourse Parkway, Atlanta, Georgia. URL: http://www.westin.com. Phone: (770) 395-3900; fax: (770) 395-3935. For discounted rates, please refer to the U.S. Department of Transportation block when making reservations. The deadline for reserving sleeping room accommodations is January 3, 2005, at 5 p.m.

This meeting is open to all interested parties. However, operators of natural gas transmission pipelines are urged to attend either in person or to observe the workshop via the internet. RSPA/OPS will web cast this meeting. To facilitate meeting planning and to obtain additional information regarding the web cast, advance registration for the meeting is strongly encouraged and can be accomplished online at the following Web site: http://primis.rspa.dot.gov/meetings. Internet links to the web cast will also be available through this Web site, or from the front page of the OPS Web site: http://ops.dot.gov. Those planning to attend this meeting through the web cast are strongly encouraged to review our tips for ensuring successful viewing in advance, as well as to register through our Web site. Registration both ensures that we can accommodate all attendees and provides additional information to them via the Internet. The deadline for online meeting registration is January 5, 2005. Walk-in registration will be accommodated on a first-come, first-served basis.

Attendees will be provided the opportunity, at scheduled times during the workshop, to ask questions or make short statements on the topics under discussion. You may submit written comments by mail or deliver to the Dockets Facility, U.S. Department of Transportation (DOT), Room PL-401, 400 Seventh Street, SW., Washington, DC 20590-0001. It is open from 10 a.m. to 5 p.m., Monday through Friday, except Federal holidays. You also may submit written comments to the docket electronically. To do so, log onto the following Internet Web address: http://dms.dot.gov. Click on “Help” for instructions on how to file a document electronically. All written comments should identify the docket and notice numbers which appear in the heading of this notice. Anyone who would like confirmation of mailed comments must include a self-addressed stamped postcard.

Anyone is able to search the electronic form of all comments received into any of our dockets by the name of the individual submitting the comment (or signing the comment, if submitted on behalf of an association, business, labor union, etc.). You may review DOT's complete Privacy Act Statement in the April 11, 2000, issue of the Federal Register (Volume 65, Number 70; Pages 19477-78) or you may visit http://dms.dot.gov.

FOR FURTHER INFORMATION CONTACT: For additional information on hotel accommodations, contact Janice Morgan at (202) 366-2392 or janice.morgan@rspa.dot.gov.

Contact Zach Barrett at (405) 954-5559; E-mail zach.barrett@tsi.jccbi.gov, or Jeff Wiese at (202) 366-2036; E-mail jeff.wiese@rspa.dot.gov regarding the subject matter of this notice. Additional information about gas integrity management can be found at http://primis.rspa.dot.gov/gasimp. You can read comments and other material in the docket on the Internet at: http://dms.dot.gov.

Information on Services for Individuals With Disabilites: For information on facilities or services for individuals with disabilities or to request special assistance at the meeting, contact Juan Carlos Martinez at (202) 366-1933; E-mail: juan.martinez@rspa.dot.gov.

SUPPLEMENTARY INFORMATION: The Pipeline Safety Improvement Act of 2003 required RSPA/OPS to issue regulations, not later than December 17, 2003, prescribing standards to direct an operator's conduct of a risk analysis and adoption and implementation of an integrity management program. On December 15, 2003, RSPA/OPS issued a Final Gas Integrity Management Rule (68 FR 69778) meeting the Congressional requirements for a risk analysis and implementation of an integrity management program. As in the earlier rule for integrity management of hazardous liquid pipelines, RSPA/OPS had four fundamental objectives for the Gas Integrity Management Rule: (1) To perform ongoing integrity assessments (i.e., in-line inspection, pressure testing or direct assessment) for pipelines that can affect high consequence areas; (2) to improve operator integrity management systems; (3) to improve government oversight of operator integrity management programs; and (4) to improve public assurance in pipeline safety. RSPA/OPS held an Integrity Management Workshop May 11-12, 2004, providing an in-depth discussion of the Gas Integrity Management Rule requirements.

The January 19-20, 2005, workshop will provide insight into the Gas Integrity Management Inspection Protocols and implementation of our oversight program. Specific requirements of the rule, as well as a wide variety of information concerning its implementation and enforcement, can be found at: http://primis.rspa.dot.gov/gasimp.

Authority: 49 U.S.C. 60102, 60109, 60117.

Issued in Washington, DC on December 16, 2004.
Stacey L. Gerard,
Associate Administrator for Pipeline Safety.

[FR Doc. 04-27894 Filed 12-17-04; 8:45 am]

BILLING CODE 4910-60-P